DEPARTMENT OF COMMERCE

National Oceanic and Atmospheric Administration

50 CFR Part 679

[Docket No. 0911161406-0170-03]

RIN 0648-AY37

Fisheries of the Exclusive Economic Zone Off Alaska; Individual Fishing Quota Program; Correction

AGENCY: National Marine Fisheries Service (NMFS), National Oceanic and Atmospheric Administration (NOAA), Commerce.

ACTION: Final rule; correction.

SUMMARY: This action corrects a final rule published on December 15, 2008, that revised the Individual Fishing Quota (IFQ) Program for the sablefish and halibut fisheries off Alaska. The December 2008 final rule erroneously removed a paragraph requiring the IFQ permit holder be aboard the vessel at all times during a fishing trip and be present during the landing of harvested fish. This action corrects the error by restoring the removed paragraph, thereby eliminating the public's possible confusion about the program's owner-on-board requirements and restoring NMFS' ability to enforce the provision. This action is intended to promote the goals and objectives of the Northern Pacific Halibut Act of 1982 (Halibut Act), the Magnuson-Stevens Fishery Conservation and Management Act (Magnuson-Stevens Act), and other applicable law.

DATES: Effective April 20, 2010.

FOR FURTHER INFORMATION CONTACT: Patsy A. Bearden, 907-586-7228.

SUPPLEMENTARY INFORMATION:

Background

The IFQ Program, a limited access management system for the fixed gear Pacific halibut (Hippoglossus stenolepis) and sablefish (Anoplopoma fimbria) fisheries off Alaska, was recommended by the Council in 1992 and approved by NMFS in January 1993. Initial implementing rules were published on November 9, 1993 (58 FR 59375). Fishing under the IFQ program began on March 15, 1995. The IFQ Program limits access to the halibut and sablefish fisheries to those persons holding quota share (QS) in specific management regions. The IFQ Program for the sablefish fishery is implemented by Amendment 15 to the Fishery Management Plan for the Groundfish Fishery of the Bering Sea and Aleutian Islands area (BSAI), Amendment 20 to the FMP for Groundfish Fishery of the Gulf of Alaska (GOA), and implemented by Federal regulations at 50 CFR part 679 under authority of the Magnuson-Stevens Act. The IFQ Program for the halibut fishery is implemented by Federal regulations at 50 CFR part 679 under the authority of the Halibut Act.

The IFQ Program's principal management measures, with certain exceptions, were: to limit the amount of QS that could be used by any person; to limit the amount of IFQ halibut or sablefish that could be harvested on a vessel; and for catcher vessels, to require the IFQ permit holder to be onboard the vessel during fishing operations. An IFQ permit authorizes participation in fixed-gear harvests of Pacific halibut off Alaska, and most sablefish fisheries off Alaska. The requirement for the IFQ permit holder to be on board the vessel at all times during the fishing trip and to be present at the landing of fish ensures active participation in the fishery by IFQ permit holders, which has an important objective of the Council. The requirement also guaranteed the IFQ permit holder's presence at landing for interviews by the enforcement personnel and to resolve any issues regarding QS account management, such as landing fish in excess of the permit holder's IFQ account. Although the requirement was published in the IFQ program's initial regulations in 1993, the regulatory text was revised at paragraph 679.42(c)(1)(ii) by a final rule (68 FR 44473) published July 29, 2003.

Need for Correction

On June 29, 2007, NMFS published a proposed rule to implement a new Internet-based fisheries landings information system, called “eLandings,” and revise other recordkeeping and reporting requirements (72 FR 35748). The proposed rule also included revisions to regulations governing fishing permits, including the IFQ program permits. NMFS published a supplemental proposed rule (73 FR 55368) that further reorganized recordkeeping and reporting regulatory text, permit requirements, and integrated the electronic and non-electronic requirements. The proposed and supplemental proposed regulatory changes were complex and technical. NMFS published a final rule (referred to below as the Interagency Electronic Reporting System (IERS) Rule) in the Federal Register on December 15, 2008 (73 FR 76136).

Section 679.42(c) was among the regulations that were reorganized by the IERS Rule. The section describes conditions on the use of QS and IFQ. The IERS Rule removed all of the sub-paragraphs from 679.42(c) and in an attempt to streamline text, revised the paragraph.

The revision resulted in the erroneous omission of the words “and must be” before the word “aboard”. The resulting regulatory text requires that a valid IFQ permit be aboard the vessel, but removed in error the requirement that the holder of the permit must be aboard the vessel at all times during the fishing trip and be present during the landing.

This action corrects the existing paragraph 679.42(c) by revising it.

Classification

Pursuant to 5 U.S.C. 553(b)(B), the Assistant Administrator of Fisheries (AA) finds good cause to waive prior notice and opportunity for public comment otherwise required by the section because it is contrary to the public interest. No aspect of this action is controversial. It was not NMFS' intent in the IERS rule to remove the requirement that QS holders who harvest halibut or sablefish with fixed gear be aboard the vessel at all times during the fishing trip and present during the landing. As discussed in the preamble above, this unintended omission was the result of the agency's reorganization of the regulations. The agency seeks to correct immediately this error to eliminate potential confusion by the regulated public as this inadvertent omission was not discussed in the IERS preambles or analyzed in the supporting document. If left unrevised, the measure creates ambiguous guidance, and thus is likely to mislead fisheries participants and may weaken regulatory enforcement efforts. Without the holder's presence at landings, it is difficult for NMFS enforcement officers to verify how much was caught at any particular time during a fishing trip or ensure access to the individual primarily responsible for the QS account management, such as overages. Further, the 2010 IFQ halibut and sablefish fishing season opened on March 6, 2010. If NMFS enforcement cannot verify catch amounts in the current opening, then catch-accounting managers will likely be unable to prevent overfishing or foresee excessive catches that result in harm to both IFQ holders and the biological resource.

For the same reasons, the AA finds good cause under 5 U.S.C. 553(d)(3) to waive the 30 day delay in effective date.

Because prior notice and opportunity for public comment are not required for this rule by 5 U.S.C. 553, or any other law, the analytical requirements of the Regulatory Flexibility Act, 5 U.S.C. 601 et seq., do not apply.

This final rule has been determined to be not significant for purposes of Executive Order 12866.

List of Subjects in 50 CFR Part 679

Alaska, Fisheries, Reporting and recordkeeping requirements.

Dated: April 14, 2010.
Eric C. Schwaab,
Assistant Administrator for Fisheries, National Marine Fisheries Service.

For reasons explained in the preamble, 50 CFR part 679 is corrected by making the following correcting amendment:

PART 679—FISHERIES OF THE EXCLUSIVE ECONOMIC ZONE OFF ALASKA

1. The authority citation for part 679 continues to read as follows:

Authority: 16 U.S.C. 773 et seq.; 1801 et seq.; 3631 et seq.; Pub. L. 108-447.

2. In § 679.42, paragraph (c) is revised to read as follows:

§ 679.42 Limitations on use of QS and IFQ.

(c) Permit holder aboard requirement. Any individual who harvests halibut or sablefish with fixed gear must have a valid IFQ permit, and if a hired master is conducting the harvest, a valid IFQ hired master permit, and must be aboard the vessel at all times during the fishing trip and be present during the landing.

[FR Doc. 2010-9065 Filed 4-19-10; 8:45 am]

BILLING CODE 3510-22-S